DEPARTMENT OF HOMELAND SECURITY

Coast Guard

[Docket No. USCG-2009-0775]

Towing Safety Advisory Committee; Meetings

AGENCY: Coast Guard, DHS.

ACTION: Notice of meetings.

SUMMARY: The Towing Safety Advisory Committee (TSAC) and its working groups on the Revision of Navigation and Vessel Inspection Circular (NVIC) 04-01, and on the Inspection of Towing Vessels will meet in Martinsburg, WV. The Committee will also discuss various issues relating to shallow-draft inland and coastal waterway navigation and towing safety. All meetings will be open to the public.

DATES: The working groups will meet on Thursday, September 24, 2009, from 8 a.m. to 5 p.m. The full TSAC Committee will meet on, Friday, September 25, 2009, from 8 a.m. to 3 p.m. These meetings may close early if all business is finished. Written material and requests to make oral presentations at the meetings should reach the Coast Guard on or before September 15, 2009. Requests to have a copy of your material distributed to each member of the Committee or working groups should reach the Coast Guard electronically on or before September 15, 2009.

ADDRESSES: The working groups and TSAC will meet at the Coast Guard National Maritime Center; 100 Forbes Drive; Martinsburg, WV 25404; Phone: 304-433-3403. The nearest large commercial airport is Dulles International Airport (IAD) which is in northern VA, just west of Washington, DC. Travel into WV to the NMC will be via automobile. Information on and directions to the NMC are on its web site at http://www.uscg.mil/nmc.

Send written material and requests to make oral presentations to TSAC's Assistant Designated Federal Officer (ADFO) in the FOR FURTHER INFORMATION CONTACT section below. This notice is available on the Internet at http://www.regulations.gov under the docket number USCG-2009-0775.

FOR FURTHER INFORMATION CONTACT: Mr. Gerald P. Miante, ADFO, TSAC; U.S. Coast Guard Headquarters, CG-5221,; 2100 Second Street, SW., STOP 7126., Washington, DC 20593-7126. Telephone (202) 372-1401, fax (202) 372-1926, or e-mail at: Gerald.P.Miante@uscg.mil.

SUPPLEMENTARY INFORMATION: Notice of these meetings is given under the Federal Advisory Committee Act, 5 U.S.C. App. (Pub. L. 92-463).

Agenda of Meetings

NVIC 04-01 Working Group. The agenda for the working group is to discuss possible revisions to NVIC 04-01, Licensing and Manning for Officers of Towing Vessels, including the enclosures on the Towing Officer Assessment Records (TOARs). (A copy of the amended Task Statement 08-01 is available in the docket where listed under ADDRESSES.) The current version of the NVIC can be viewed at http://www.uscg.mil/hq/g-m/nvic/index00.htm#2001.

A Sub-Working Group will also meet to discuss licensing issues relevant to Assistance Towing and other specialty towing concerns.

Towing Vessel Inspection Working Group. The group will meet to discuss and decide on a methodology the Committee will use to review and comment on the Towing Vessel Inspection Notice of Proposed Rulemaking when it publishes in the Federal Register.

Towing Safety Advisory Committee. The tentative agenda for the Committee is as follows:

(1) Update of the Towing Vessel Inspection Working Group;

(2) Update on Commercial/Recreational Boating Interface;

(3) Report on the Review and Recommendations for the Revision of NVIC 04-01 “Licensing and Manning for Officers of Towing Vessels;”

(4) Report on the Review and Recommendations for the Revision of NVIC 04-01 Sub-Working Group on Assistance Towing;

(5) Update on National Maritime Center (NMC) activities;

(6) Update on the Towing Vessel Bridging Program; and

(7) Update on the Towing Vessel Center of Expertise.

Procedural

All meetings are open to the public. Please note that the meetings may close early if all business is finished. At the Chair's discretion, members of the public may make oral presentations during the meetings. If you would like to make an oral presentation at a meeting, please notify the ADFO no later than September 15, 2009. Written material (20 copies) for distribution at a meeting should reach the Coast Guard no later than September 15, 2009. If you would like a copy of your material distributed to each member of the Committee or Working Groups in advance of a meeting, please submit it electronically to the ADFO, for e-mail distribution, no later than September 15, 2009. Also at the Chair's discretion, members of the public may present comment at the end of the Public Meeting. Please understand that the Committee's schedule may be quite demanding and time for public comment may be limited.

Information on Services for Individuals With Disabilities

For information on facilities or services for individuals with disabilities or to request special assistance at the meetings, contact the ADFO as soon as possible.

Dated: September 2, 2009.
J.G. Lantz,
Director of Commercial Regulations and Standards.

[FR Doc. E9-21566 Filed 9-4-09; 8:45 am]

BILLING CODE 4910-15-P